DEPARTMENT OF HOMELAND SECURITY

Immigration and Customs Enforcement

Agency Information Collection Activities: Extension of an Existing Information Collection; Comment Request

ACTION: 30-Day Notice of Information Collection Under Review: Data Relating to Beneficiary of Private Bill; Form G-79A, OMB Control Number 1653-0026.

The Department of Homeland Security, U.S. Immigration and Customs Enforcement (USICE) has submitted the following information collection request to the Office of Management and Budget (OMB) for review and clearance in accordance with the Paperwork Reduction Act of 1995. The information collection was previously published in the Federal Register on October 23, 2006, at 71 FR 62116, allowing for a 60-day public comment period. No comments were received on this information collection.

The purpose of this notice is to allow an additional 30 days for public comments. Comments are encouraged and will be accepted until February 12, 2007. This process is conducted in accordance with 5 CFR 1320.10.

Written comments and/or suggestions regarding the item(s) contained in this notice, especially regarding the estimated public burden and associated response time, should be directed to the Department of Homeland Security (DHS), USICE, Office of Asset Management, Records Branch 425 I St., NW., Room 1122, Washington, DC 20536. Comments may also be submitted to ICE via facsimile to 202-514-1867 or via e-mail at ICERecordsbranch@dhs.gov. Any comments should also be submitted to the OMB Desk Officer by e-mail at kastrich@omb.eop.gov or faxed to 202-395-6974.

When submitting comments by e-mail please make sure to add OMB Control Number 1653-0026. Written comments and suggestions from the public and affected agencies should address one or more of the following four points:

(1) Evaluate whether the collection of information is necessary for the proper performance of the functions of the agency, including whether the information will have practical utility;

(2) Evaluate the accuracy of the agency's estimate of the burden of the collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Extension of a currently approved information collection.

(2) Title of the Form/Collection: Data Relating to Beneficiary of Private Bill.

(3) Agency form number, if any, and the applicable component of the Department of Homeland Security sponsoring the collection: G-79A. U.S. Immigration and Customs Enforcement.

(4) Affected public who will be asked or required to respond, as well as a brief abstract: Primary: Individuals and Households. This information collection provides a uniform method for applicants to apply for refugee status and contains the information needed in order to adjudicate such applications.

(5) An estimate of the total number of respondents and the amount of time estimated for an average respondent to respond: 100 responses at approximately 1 hour per response.

(6) An estimate of the total public burden (in hours) associated with the collection: 100 annual burden hours.

If additional information is required contact: ICE Records Management Branch via facsimile 202-514-1867 or via e-mail at ICERecordsbranch@dhs.gov.

Dated: January 9, 2007.
Ricardo Lemus,
Chief, Records Management Branch, U.S. Immigration and Customs Enforcement, Department of Homeland Security.

[FR Doc. E7-344 Filed 1-11-07; 8:45 am]

BILLING CODE 4410-10-P